DEPARTMENT OF TRANSPORTATION

Federal Aviation Administration

Proposed Advisory Circular 25.775-1X, Windows and Windshields

AGENCY: Federal Aviation Administration, DOT.

ACTION: Notice of Availability of Proposed Advisory Circular (AC) 25.775-1X and request for comments.

SUMMARY: This notice announces the availability of and requests comments on a proposed advisory circular (AC) which provides methods acceptable to the Administrator related to the certification requirements for windows, windshields, and mounting structures of 14 CFR part 25 regarding the type certification requirements for transport airplane structure. This notice is necessary to give all interested persons an opportunity to present their views on the proposed AC.

DATES: Comments must be received on or before September 18, 2001.

ADDRESSES: Send all comments on the proposed AC to: Federal Aviation Administration, Attention: Rich Yarges, Airframe/Cabin Safety Branch, ANM-115, Transport Airplane Directorate, Aircraft Certification Service, 1601 Lind Avenue SW, Renton, WA 98055-4056. Comments may also be submitted electronically to the following address: rich.yarges@faa.gov. Comments may be inspected at the above address between 7:30 a.m. and 4 p.m. weekdays, except Federal holidays.

FOR FURTHER INFORMATION CONTACT: Rich Yarges, Airframe/Cabin Safety Branch, ANM-115, Transport Airplane Directorate, Aircraft Certification Service, 1601 Lind Avenue SW, Renton, WA 98055-4056; telephone (425) 227-2143; facsimile (425) 227-1320. Questions may also be submitted electronically to the following address: rich.yarges@faa.gov.

SUPPLEMENTARY INFORMATION:

Comments Invited

You may obtain an electronic copy of the advisory circular identified in this notice at the following Internet address: www.faa.gov/avr/air/airhome.htm. If you do not have access to the Internet, you may request a copy by contacting Susan Boylon, Standardization Branch, ANM-113, FAA Transport Airplane Directorate, Aircraft Certification Service, 1601 Lind Avenue SW., Renton, WA 98055-4056; telephone (425) 227-1152.

Interested persons are invited to comment on the proposed AC by submitting such written data, views, or arguments, as they may desire. Commenters should identify AC 25.775-1X, and submit comments, in duplicate, to the address specified above. The Transport Standards Staff will consider all communications received on or before the closing date for comments before issuing the final AC.

Harmonization of Standards and Guidance

The proposed AC is based on recommendations submitted to the FAA by the Aviation Rulemaking Advisory Committee (ARAC). The FAA tasked ARAC (63 FR 50954, September 23, 1998) to provide advice and recommendations on “harmonizing” certain sections of part 25 (including § 25.775) with the counterpart standards contained in Joint Aviation Requirements (JAR) 25. The goal of “harmonization tasks,” such as this, is to ensure that:

1. Where possible, standards and guidance do not require domestic and foreign parties to manufacture or operate to different standards for each country involved; and

2. The standards and guidance adopted are mutually acceptable to the FAA and the foreign aviation authorities.

3. The guidance contained in the proposed AC has been harmonized with that of the JAA, and provides a method of compliance that has been found acceptable to both the FAA and JAA.

Discussion

This proposed AC sets forth acceptable methods of compliance with the provisions of 14 CFR 25.775 dealing with the certification requirements for windows, windshields, and mounting structures. Guidance information is provided for showing compliance with that regulation. Other methods of compliance with the requirements may be acceptable.

Issued in Renton, Washington, on June 11, 2001.
Donald L. Riggin,
Acting Manager, Transport Airplane Directorate, Aircraft Certification Service.

[FR Doc. 01-15486 Filed 6-19-01; 8:45 am]

BILLING CODE 4910-13-P